DEPARTMENT OF TRANSPORTATION

Coast Guard

33 CFR Parts 84 and 183

46 CFR Part 25

[USCG-1999-6580]

RIN 2115-AF70

Certification of Navigation Lights for Uninspected Commercial Vessels and Recreational Vessels

AGENCY: Coast Guard, DOT.

ACTION: Final rule; delay of effective date.

SUMMARY: The Coast Guard is delaying the effective date of the final rule on Certification of Navigation Lights for Uninspected Commercial Vessels and Recreational Vessels published in the Federal Register on November 1, 2001. The final rule requires domestic manufacturers of vessels to install only certified navigation lights on all newly manufactured uninspected commercial vessels and recreational vessels. This rule aligns the requirements for these lights with those for inspected commercial vessels and with requirements for all other mandatory safety equipment carried on board all vessels. The Coast Guard expects the resulting reduction in the use of noncompliant lights to improve safety on the water.

EFFECTIVE DATE: The final rule is effective on November 1, 2003.

ADDRESSES: Comments and material received from the public, as well as documents mentioned in this preamble as being available in the docket, are part of docket USCG-1999-6580 and are available for inspection or copying at the Docket Management Facility, U.S. Department of Transportation, room PL-401, 400 Seventh Street, SW., Washington, DC, between 9 a.m. and 5p.m., Monday through Friday, except Federal holidays. You may also find this docket on the Internet at http://dms.dot.gov.

FOR FURTHER INFORMATION CONTACT: If you have questions on this rule, contact Randolph J. Doubt, Project Manager, Office of Boating Safety, Coast Guard, by telephone at 202-267-6810 or by e-mail at rdoubt@comdt.uscg.mil. If you have questions on viewing the docket, call Dorothy Beard, Chief, Dockets, Department of Transportation, by telephone at 202-366-5149.

SUPPLEMENTARY INFORMATION: On November 1, 2001, the Coast Guard published a final rule entitled “Certification of Navigation Lights for Uninspected Commercial Vessels and Recreational Vessels” in the Federal Register (66 FR 55086). The final rule, which was to become effective on November 1, 2002, directs manufacturers of uninspected commercial vessels and recreational vessels to install only navigation lights certified and labeled by a laboratory listed by the Coast Guard as meeting the technical requirements of the Navigation Rules.

Upon publication of the final rule, the Coast Guard noted that the implementation date may not provide enough time to complete the testing of navigation lights by laboratories listed by the Coast Guard to allow the recreational boat manufacturers to comply with the regulation. July 2002 is the date most of next year boat models will appear on show room floors. Photo boats for sales brochures will be built in March and April 2002 so that these brochures can be printed in time for the introductions. Actual new model year production will start in April and May 2002. Thus, boat builders must make their navigation light selections for the upcoming model year as early as February 2002. Each navigation light manufacturer will have to make tooling changes to meet the new marking requirements, and many will have to retest their applicable product line. Sufficient time is not available to do this by February 2002. The alternative would be to pull all unsold boats off the market on November 1, 2002, replacing them either with new boat models equipped with compliant navigation lights or modifying their navigation lights to meet the new marking and certification requirements. Most, if not all, agree that this latter alternative is not a reasonable course to take.

Based upon this concern, the Coast Guard is delaying the effective date of the final rule to November 1, 2003.

Accordingly, in FR Doc. 01-27320 published in the Federal Register on November 1, 2001, at 66 FR 55086, the effective date for the referenced final rule is changed from November 1, 2002, to November 1, 2003.

Dated: January 9, 2002.
Terry M. Cross,
Rear Admiral, U. S. Coast Guard, Assistant Commandant for Operations.

[FR Doc. 02-1252 Filed 1-16-02; 8:45 am]

BILLING CODE 4910-15-P